SURFACE TRANSPORTATION BOARD

[Docket No. AB 1291X]

Alcoa Energy Services, Inc.—Abandonment Exemption—in Milam County, Tex.

On November 21, 2019, Alcoa Energy Services, Inc. (AESI), filed with the Surface Transportation Board (Board) a petition under 49 U.S.C. 10502 for exemption from the prior approval requirements of 49 U.S.C. 10903 for AESI to abandon approximately six miles of railroad line extending between milepost 0.0 at a point of connection with Union Pacific Railroad Company at Marjorie, Tex., and milepost 6.0 at Sandow, Tex. (the Line).¹ The Line traverses U.S. Postal Service Zip Codes 76567 and 76577.

¹ AESI states that it does not know if the Line has any stations, but it believes that the Line may include the stations of Marjorie and Sandow.

AESI acquired the Line in 2018. See Alcoa Energy Servs., Inc.—Acquis. Exemption—Rockdale, Sandow & S. R.R., FD 36257 (STB served Dec. 14, 2018). AESI states that, after almost a year of ownership, there is no current demand for rail service and no apparent traffic prospects. (Pet. 3.) ² AESI states that, if the petition for exemption is granted, it intends for the time being to preserve the Line as private, unregulated trackage, but it cannot rule out the possibility of future salvage. (Pet. 2.)

² According to the petition, Alcoa USA Corp. owns an inactive smelter facility (Sandow Facility) on the Line which will not be restored to operation. (Pet. 1-2.)

AESI believes that it possesses fee title interest in the underlying right-of-way, and, as such, that there is no federally granted right-of-way along the route. Any documentation in the railroad's possession regarding federally granted right-of-way will be made available promptly to those requesting it.

AESI states that, because it proposes to abandon its entire railroad system, it is appropriate that no labor protective conditions be imposed. (Pet. 7 (citing Knox & Kane R.R.—Aban. Exemption—McKean Cty., Pa., AB 551 (Sub-No. 2X) (STB served July 24, 2015).)

By issuance of this notice, the Board is instituting an exemption proceeding pursuant to 49 U.S.C. 10502(b). A final decision will be issued by March 10, 2020.

Any offer of financial assistance (OFA) under 49 CFR 1152.27(b)(2) will be due no later than 120 days after the filing of the petition for exemption, or 10 days after service of a decision granting the petition for exemption, whichever occurs sooner. Persons interested in submitting an OFA must first file a formal expression of intent to file an offer by December 23, 2019, indicating the type of financial assistance they wish to provide (i.e., subsidy or purchase) and demonstrating that they are preliminarily financially responsible. See 49 CFR 1152.27(c)(1)(i).

Following authorization for abandonment, the Line may be suitable for other public use, including interim trail use. Any request for a public use condition under 49 CFR 1152.28 or for interim trail use/rail banking under 49 CFR 1152.29 will be due no later than December 31, 2019.³

³ Filing fees for OFAs and trail use requests can be found at 49 CFR 1002.2(f)(25) and (27), respectively.

All pleadings, referring to Docket No. AB 1291X, must be filed with the Surface Transportation Board either via e-filing or in writing addressed to 395 E Street SW, Washington, DC 20423-0001. In addition, a copy of each pleading must be served on AESI's representative, Robert A. Wimbish, Fletcher & Sippel LLC, 29 North Wacker Drive, Suite 800, Chicago, IL 60606. Replies to this petition are due on or before December 31, 2019.

Persons seeking further information concerning abandonment procedures may contact the Board's Office of Public Assistance, Governmental Affairs, and Compliance at (202) 245-0238 or refer to the full abandonment regulations at 49 CFR part 1152. Questions concerning environmental issues may be directed to the Board's Office of Environmental Analysis (OEA) at (202) 245-0305. Assistance for the hearing impaired is available through the Federal Relay Service at (800) 877-8339.

An environmental assessment (EA) (or environmental impact statement (EIS), if necessary) prepared by OEA will be served upon all parties of record and upon any agencies or other persons who comment during its preparation. Other interested persons may contact OEA to obtain a copy of the EA (or EIS). EAs in abandonment proceedings normally will be made available within 60 days of the filing of the petition. The deadline for submission of comments on the EA generally will be within 30 days of its service.

Board decisions and notices are available at www.stb.gov.

Decided: December 5, 2019.
By the Board, Allison C. Davis, Director, Office of Proceedings.
Kenyatta Clay,
Clearance Clerk.

[FR Doc. 2019-26665 Filed 12-10-19; 8:45 am]

BILLING CODE 4915-01-P